ENVIRONMENTAL PROTECTION AGENCY

[EPA-HQ-ORD-2023-0240; FRL-10973-01-ORD]

Scientific Integrity Policy Draft for Public Comment

AGENCY: Environmental Protection Agency (EPA).

ACTION: Notice of public comment period.

SUMMARY: The U.S. Environmental Protection Agency (EPA) is announcing a 30-day public comment period on the draft updates to its Scientific Integrity (SI) Policy. In accordance with the requirements of the 2021 Presidential Memorandum on Restoring Trust in Government Through Scientific Integrity and Evidence-based Policymaking, EPA is revising our SI Policy. The updated SI Policy will adopt a new Federal definition of scientific integrity and meaningfully strengthen several policy elements that will help ensure a culture of scientific integrity at the Agency. It will incorporate the model scientific integrity policy from the National Science and Technology Council's A Framework for Federal Scientific Integrity Policy and Practice (2023), lessons learned over the years, and the results of previous surveys of EPA staff on scientific integrity.

DATES: The 30-day public comment period begins January 24, 2024 and ends February 23, 2024. Comments must be received on or before February 23, 2024 to be considered by EPA.

ADDRESSES: You may send comments, identified by Docket ID No. EPA-HQ-ORD-2023-0240, by any of the following methods:

• Federal eRulemaking Portal: https://www.regulations.gov/ (our preferred method). Follow the online instructions for submitting comments.

• Mail: U.S. Environmental Protection Agency, EPA Docket Center, Office of Research and Development Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday through Friday (except Federal Holidays).

Instructions: All submissions received must include the Docket ID No. for this action. Comments received may be posted without change to https://www.regulations.gov/, including any personal information provided. For detailed instructions on sending comments and additional information, see the “Public Participation” heading of the SUPPLEMENTARY INFORMATION section of this document.

FOR FURTHER INFORMATION CONTACT: For information on the public comment period, contact the ORD Docket at the EPA Headquarters Docket Center; telephone: 202-566-1752; facsimile: 202-566-9744; or email: Docket_ORD@epa.gov. For technical information on the draft guidelines or information on the public comment period, contact Dr. Francesca Grifo, via email at: grifo.francesca@epa.gov; or via phone/voicemail at 202-657-8575.

SUPPLEMENTARY INFORMATION:

I. Public Participation

Written Comments: Submit your comments, identified by Docket ID No. EPA-HQ-ORD-2023-0240, at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. Background

EPA issued its first Scientific Integrity Policy in 2012 and the Agency appointed its first full time Scientific Integrity Official (SIO) in 2013 based on requirements in both the 2009 Scientific Integrity Presidential Memorandum and the 2010 Office of Science and Technology Policy (OSTP) Presidential Memorandum on Scientific Integrity. Those documents together with the 2021 Presidential Memorandum on Restoring Trust in Government Through Scientific Integrity and Evidence-based Policymaking guided the draft updates of the 2023 Scientific Integrity (SI) Policy. The draft updates are derived from these documents, the collective experience of Federal agencies, and the informed engagement of stakeholders both inside and outside of government captured in the actions of the 2022 National Science and Technology Council Scientific Integrity Fast Track Action Committee and their report, Protecting the Integrity of Government Science (SI-FTAC Report) and the National Science and Technology Council 2023 A Framework for Federal Scientific Integrity Policy and Practice.

The draft SI Policy updates include but are not limited to the adoption of a new Federal definition of scientific integrity as well as the introduction and clarification of roles and responsibilities, such as the new role of the EPA Chief Scientist. In addition, the draft policy updates will significantly strengthen several policy elements (e.g., protecting scientific processes, reviewing science, ensuring the free flow of scientific information, supporting decision making processes, ensuring accountability, etc.) that will help ensure a culture of scientific integrity at the Agency.

III. How will comments be used?

EPA values external knowledge and experience with scientific integrity and looks forward to comments pertaining to policy content. Public comment received on the SI Policy will be reviewed and considered to be incorporated into or modify text in the final revised SI Policy. The final revised SI Policy will undergo internal EPA review and revision and be posted on EPA's website.

Maureen R. Gwinn,
EPA Chief Scientist.

[FR Doc. 2024-01313 Filed 1-23-24; 8:45 am]

BILLING CODE 6560-50-P